AFRICAN DEVELOPMENT FOUNDATION

Sunshine Act Meeting

Meeting: African Development Foundation, Board of Directors Meeting.

Time: Tuesday, October 23, 2007, 9 a.m. to 3 p.m.

Place: African Development Foundation, Conference Room, 1400 I Street, NW., Suite 1000, Washington, DC 20005.

Date: Tuesday, October 23, 2007.

Status: 1. Closed session, October 23, 2007, 9 a.m. to 10:30 a.m.; and,

2. Open session, October 23, 2007, 10:30 a.m. to 3 p.m.

Due to security requirements and limited seating, all individuals wishing to attend the open session of the meeting must notify Doris Martin, General Counsel, at (202) 673-3916 or mrivard@usadf.gov of your request to attend by 9 a.m. on Friday, October 19, 2007.

Lloyd O. Pierson,
President.

[FR Doc. 07-5148 Filed 10-15-07; 1:19 pm]

BILLING CODE 6117-01-P